DEPARTMENT OF AGRICULTURE

Agricultural Marketing Service

[Docket No. FV03-916-610 Review]

Nectarines, Pears, and Peaches Grown in California

AGENCY: Agricultural Marketing Service, USDA.

ACTION: Notice of review and request for comments.

SUMMARY: This notice announces that the Agricultural Marketing Service (AMS) plans to review Marketing Orders 916 and 917 for nectarines, pears, and peaches grown in California, under the criteria contained in section 610 of the Regulatory Flexibility Act (RFA).

DATES: Written comments on this notice must be received by June 20, 2003.

ADDRESSES: Interested persons are invited to submit written comments concerning this notice of review. Comments must be sent to the Docket Clerk, Marketing Order Administration Branch, Fruit and Vegetable Programs, AMS, USDA, 1400 Independence Avenue, SW., STOP 0237, Washington, DC 20250-0237; Fax: (202) 720-8938, or E-mail: moab.docketclerk@usda.gov. All comments should reference the docket number and the date and page number of this issue of the Federal Register and will be made available for public inspection in the Office of the Docket Clerk during regular business hours, or may be viewed at http://www.ams.usda.gov/fv/moab.html.

FOR FURTHER INFORMATION CONTACT: Kurt J. Kimmel, Regional Manager, California Marketing Field Office, Marketing Order Administration Branch, Fruit and Vegetable Programs, AMS, USDA, 2202 Monterey Street, suite 102B, Fresno, CA 93721; telephone: (559) 487-5901; Fax: (559) 487-5906; E-mail: Kurt.Kimmel@usda.gov; or George Kelhart, Marketing Order Administration Branch, Fruit and Vegetable Programs, AMS, USDA, 1400 Independence Avenue, SW., STOP 0237, Washington, DC 20250-0237;: (202) 720-8938, or E-mail: George.Kelhart@usda.gov.

SUPPLEMENTARY INFORMATION: Marketing Orders No. 916 and 917, as amended (7 CFR parts 916 and 917), regulate the handling of nectarines, pears, and peaches grown in California. The marketing orders are effective under the Agricultural Marketing Agreement Act of 1937 (AMAA), as amended (7 U.S.C. 601-674). The pear provisions and regulations have been suspended since 1994.

AMS initially published in the Federal Register (63 FR 8014; February 18, 1999), its plan to review certain regulations, including Marketing Orders No. 916 and 917, under criteria contained in section 610 of the Regulatory Flexibility Act (RFA; 5 U.S.C. 601-612). An updated plan was published in the Federal Register on January 4, 2002 (67 FR 525). Because many AMS regulations impact small entities, AMS has decided, as a matter of policy, to review certain regulations which, although they may not meet the threshold requirement under section 610 of the RFA, warrant review.

The purpose of the review will be to determine whether the marketing orders for nectarines and peaches grown in California should be continued without change, amended, or rescinded (consistent with the objectives of the AMAA) to minimize the impacts on small entities. For pears, the purpose of the review will be to determine whether the marketing order for pears should be reactivated without change, amended, or rescinded. In conducting this review, AMS will consider the following factors: (1) The continued need for the marketing orders; (2) the nature of complaints or comments received from the public concerning the marketing orders; (3) the complexity of the marketing orders; (4) the extent to which the marketing orders overlap, duplicate, or conflict with other Federal rules, and, to the extent feasible, with State and local governmental rules; and (5) the length of time since the marketing orders have been evaluated or the degree to which technology, economic conditions, or other factors have changed in the area affected by the marketing orders.

An official of USDA will preside over the meeting. Those wishing to make oral comments will be asked to register with the official at the meeting. A time limitation of ten minutes for each commenter may be imposed. Questions to participants from the audience will not be permitted.

Authority: 7 U.S.C. 601-674.

Dated: April 15, 2003.
A.J. Yates,
Administrator, Agricultural Marketing Service.

[FR Doc. 03-9673 Filed 4-18-03; 8:45 am]

BILLING CODE 3410-02-P